DEPARTMENT OF ENERGY

Federal Energy Regulatory Commission

[Docket No. RP05-335-000]

Mississippi Canyon Gas Pipeline, LLC; Notice of Proposed Changes in FERC Gas Tariff

May 11, 2005.

Take notice that on May 9, 2005, Mississippi Canyon Gas Pipeline, LLC (Mississippi Canyon) tendered for filing as part of its FERC Gas Tariff, First Revised Volume No. 1, the following tariff sheets, to become effective May 10, 2005:

Second Revised Sheet No. 149

First Revised Sheet No. 150

First Revised Sheet No. 241

Original Sheet No. 249A

Original Sheet No. 249B

Original Sheet No. 249C

First Revised Sheet No. 252

Original Sheet No. 260A

Original Sheet No. 260B

Original Sheet No. 260C

First Revised Sheet No. 263

Original Sheet No. 271

Original Sheet No. 272

Original Sheet No. 273

Sheet Nos. 274-289 (sheets reserved for future use)

First Revised Sheet No. 294

Original Sheet No. 298A

Original Sheet No. 298B

Original Sheet No. 298C

Mississippi Canyon states that it is filing these tariff sheets to amend its general terms and conditions to provide for specific types of discounts in its tariff, consistent with Commission policy.

Mississippi Canyon states that copies of its filing have been mailed to all affected customers of Mississippi Canyon and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2478 Filed 5-16-05; 8:45 am]

BILLING CODE 6717-01-P